DEPARTMENT OF TRANSPORTATION

Federal Aviation Administration

Public Notice for Waiver of Aeronautical Land-Use Assurance; Marshfield Municipal Airport, Marshfield, WI

AGENCY: Federal Aviation Administration, DOT.

ACTION: Notice of intent of waiver with respect to land.

SUMMARY: The Federal Aviation Administration (FAA) is considering a proposal to authorize the release of 2.04 acres of the airport property at the Marshfield Municipal Airport, Marshfield, WI. The Wisconsin Department of Transportation (WisDOT) is seeking airport property to improve the intersection of U.S. Highway 10 and County Trunck Highway BB. The WisDOT issued an environmental Finding of No Significant Impact on January 30, 2007.

The acreage being released is not needed for aeronautical use as currently identified on the Airport Layout Plan. The acreage comprising this parcels 20 and 32 were originally acquired under Grant Nos. ADAP 6-55-0039-03. The City of Marshfield (Wisconsin), as airport owner, has concluded that the subject airport land is not needed for expansion of airport facilities. There are no impacts to the airport by allowing the airport to dispose of the property. The airport will receive the appraised fair market value of $18,500 for the land. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before June 20, 2011.

ADDRESSES: Mr. Andrew J. Peek, Program Manager, Federal Aviation Administration, Airports District Office, 6020 28th Avenue South, Room 102, Minneapolis, MN 55450-2706. Telephone Number (612) 713-4350/FAX Number (612) 713-4346. Documents reflecting this FAA action may be reviewed at this same location or at the Wisconsin Department of Transportation, 4802 Sheboygan Ave., Room 701, Madison, WI 53707.

FOR FURTHER INFORMATION CONTACT: Mr. Andrew J. Peek, Program Manager, Federal Aviation Administration, Airports District Office, 6020 28th Avenue South, Room 102, Minneapolis, MN 55450-2706. Telephone Number (612) 713-4350/FAX Number (612) 713-4346. Documents reflecting this FAA action may be reviewed at this same location or at the Wisconsin Department of Transportation, 4802 Sheboygan Ave., Room 701, Madison, WI 53707.

SUPPLEMENTARY INFORMATION: Following is a legal description of the subject airport property to be released at Marshfield Municipal Airport in Marshfield, Wisconsin and described as follows:

A parcel of land located in Northeast Quarter of the Northeast Quarter of Section 30, Township 25 North, Range 3 East, town of Cameron, Marshfield, Wood County, WI.

And

Northeast Quarter of the Northeast Quarter of Section 30, Township 25 North, Range 3 East, Town of Cameron (since changed to the City of Marshfield), Wood County, WI.

Said parcel subject to all easements, restrictions, and reservations of record.

Issued in Minneapolis, MN on April 27, 2011.
Steven J. Obenauer,
Manager, Minneapolis Airports District Office FAA, Great Lakes Region.

[FR Doc. 2011-11994 Filed 5-18-11; 8:45 am]

BILLING CODE 4910-13-M